Title 3—

The President

Presidential Determination No. 2021-01 of October 14, 2020

Presidential Determination and Certification With Respect to the Child Soldiers Prevention Act of 2008

Memorandum for the Secretary of State

Pursuant to section 404 of the Child Soldiers Prevention Act of 2008 (22 U.S.C. 2370c-1) (CSPA), I hereby:

Determine that it is in the national interest of the United States to waive the application of the prohibition under section 404(a) of the CSPA with respect to Afghanistan, Cameroon, Iraq, Libya, and Nigeria; to waive the application of the prohibition in section 404(a) of the CSPA with respect to the Democratic Republic of the Congo to allow for the provision of International Military Education and Training (IMET) and Peacekeeping Operations (PKO) assistance, to the extent that the CSPA would restrict such assistance or support; to waive the application of the prohibition in section 404(a) of the CSPA with respect to Somalia to allow for the provision of IMET and PKO assistance and support provided pursuant to 10 U.S.C. 333, to the extent that the CSPA would restrict such assistance or support; to waive the application of the prohibition in section 404(a) of the CSPA with respect to South Sudan to allow for the provision of PKO assistance, to the extent that the CSPA would restrict such assistance; and, to waive the application of the prohibition in section 404(a) of the CSPA with respect to Yemen to allow for the provision of PKO and IMET assistance and support provided pursuant to 10 U.S.C. 333, to the extent that the CSPA would restrict such assistance or support; and

Certify that the governments of the above countries are taking effective and continuing steps to address the problems of child soldiers.

Accordingly, I hereby waive such applications of section 404(a) of the CSPA.

You are authorized and directed to submit this determination to the Congress, along with the Memorandum of Justification, and to publish the determination in the Federal Register.

THE WHITE HOUSE,

Washington, October 14, 2020

[FR Doc. 2020-24292

Filed 10-29-20; 11:15 am]

Billing code 4710-10-P